DEPARTMENT OF HOMELAND SECURITY

Coast Guard

33 CFR Part 100

[Docket No. USCG-2022-0100]

Special Local Regulations; Rose Fest Dragon Boat Races, Willamette River, Portland, OR

AGENCY: Coast Guard, Department of Homeland Security (DHS).

ACTION: Notification of enforcement of regulation.

SUMMARY: The Coast Guard will enforce a special local regulation for the Rose Fest Dragon Boat Races from June 11 through June 12, 2022, to provide for the safety of life on navigable waterways during this event. Our regulation for marine events within the Thirteenth Coast Guard District identifies the regulated area for this event in Portland, OR. During the enforcement periods, the operator of any vessel in the regulated area must comply with directions from the Patrol Commander or any Official Patrol displaying a Coast Guard ensign.

DATES: The regulations for the Rose Fest Dragon Boat Races in item 1 of Table 1 to 33 CFR 100.1302 will be enforced from 6:30 a.m. until 6:30 p.m., each day from June 11, 2022, through June 12, 2022.

FOR FURTHER INFORMATION CONTACT: If you have questions about this notification of enforcement, call or email LCDR Sean Morrison, Waterways Management Division, Marine Safety Unit Portland, U.S. Coast Guard; telephone 503-240-9319, email D13-SMB-MSUPortlandWWM@uscg.mil.

SUPPLEMENTARY INFORMATION: The Coast Guard will enforce a special local regulation in 33 CFR 100.1302 for the Rose Fest Dragon Boat Races regulated area from 6:30 a.m. to 6:30 p.m. on June 11 and June 12, 2022. This action is being taken to provide for the safety of life on navigable waterways during this 2-day event. Our regulation for marine events within the Thirteenth Coast Guard District, § 100.1302, specifies the location of the regulated area for the Rose Fest Dragon Boat Races which encompasses portions of the Willamette River. Spectators or other vessels shall not anchor, block, loiter, or impede the transit of event participants or official patrol vessels in the regulated area during the effective dates and times. During the enforcement periods, as reflected in Table 1 of § 100.1302, if you are the operator of a vessel in the regulated area you must comply with directions from the Patrol Commander or any Official Patrol displaying a Coast Guard ensign.

To seek permission to enter, contact the Captain of the Port (COTP) or the COTP's representative by calling (503) 209-2468 or the Sector Columbia River Command Center on Channel 16 VHF-FM. Those in the regulated area must comply with all lawful orders or directions given to them by the COTP or the COTP's designated representative. In addition to this notification of enforcement in the Federal Register, the Coast Guard plans to provide notification of this enforcement period via the Local Notice to Mariners and marine information broadcasts.

Dated: February 15, 2022.
M. Scott Jackson,
Captain, U.S. Coast Guard, Captain of the Port Columbia River.

[FR Doc. 2022-04296 Filed 2-28-22; 8:45 am]

BILLING CODE 9110-04-P